DEPARTMENT OF TRANSPORTATION

Federal Railroad Administration

[Docket No. FRA-2020-0027-N-8]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Requests (ICRs) abstracted below. Before submitting these ICRs to the Office of Management and Budget (OMB) for approval, FRA is soliciting public comment on specific aspects of the activities identified below.

DATES: Interested persons are invited to submit comments on or before June 22, 2020.

ADDRESSES: Submit written comments on the ICRs activities by mail to either: Ms. Hodan Wells, Information Collection Clearance Officer, Office of Railroad Safety, Regulatory Analysis Division, Federal Railroad Administration, 1200 New Jersey Avenue SE, Washington, DC 20590; or Ms. Kim Toone, Information Collection Clearance Officer, Office of Administration, Office of Information Technology, Federal Railroad Administration, 1200 New Jersey Avenue SE, Washington, DC 20590. Commenters requesting FRA to acknowledge receipt of their respective comments must include a self-addressed stamped postcard stating, “Comments on OMB Control Number 2130-XXXX,” (the relevant OMB control number for each ICR is listed below) and should also include the title of the ICR. Alternatively, comments may be faxed to 202-493-6216 or 202-493-6497, or emailed to Ms. Wells at hodan.wells@dot.gov, or Ms. Toone at kim.toone@dot.gov. Please refer to the assigned OMB control number in any correspondence submitted. FRA will summarize comments received in response to this notice in a subsequent notice and include them in its information collection submission to OMB for approval.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICRs regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summaries below describe the ICRs that FRA will submit for OMB clearance as the PRA requires:

Title: Locomotive Cab Sanitation.

OMB Control Number: 2130-0552.

Abstract: FRA's locomotive cab sanitation standards, 49 CFR 229.137 and 229.139, prescribe minimum standards for the locomotive cab sanitation compartment, including the toilet facility. FRA uses the information collection associated with these provisions to promote rail safety and locomotive crew member health by ensuring crew member access to a functioning and sanitary toilet facility and that railroads timely repair defective and unsanitary conditions in the sanitation compartment.

Type of Request: Extension without change of a currently approved information collection.

Affected Public: Businesses (railroads).

Form(s): N/A.

Respondent Universe: 746 railroads.

Frequency of Submission: One-time.

Reporting Burden:

CFR section | Respondent universe | Total annual responses | Average time per responses | Total annual burden hours | Total cost equivalent
229.137(d)—Defective, unsanitary toilet facility; use in trailing position—Tagging | 746 railroads | 11,700 tags | 90 seconds | 293 | $22,268
229.137(e) Defective, sanitary toilet facility; use in switching, transfer service—Tagging | 746 railroads | 7,956 tags | 90 seconds | 199 | 15,124
229.139(d) Switching or transfer service—defective locomotive toilet facility—Notation on daily inspection report | 746 railroads | 93,600 notations | 30 seconds | 780 | 59,280
Total | 746 railroads | 113,256 responses | N/A | 1,272 | 96,672

Total Estimated Annual Responses: 113,256.

Total Estimated Annual Burden: 1,272 hours.

Total Estimated Annual Burden Hour Dollar Cost Equivalent: $96,672.

Title: Locomotive Crashworthiness.

OMB Control Number: 2130-0564.

Abstract: Under 49 CFR part 229, subpart D, FRA prescribes minimum crashworthiness standards for locomotives. These crashworthiness standards are intended to help protect locomotive cab occupants in the event of a train collision or derailment. FRA uses this collection of information to ensure railroads operate locomotives that meet the prescribed minimum performance standards and design load requirements for newly manufactured and re-manufactured locomotives.

Type of Request: Extension with change (revised estimates) of a currently approved collection.

Affected Public: Businesses/Public/Interested Parties.

Form(s): N/A.

Respondent Universe: 746 railroads/4 locomotive manufacturers.

Frequency of Submission: On occasion; one-time.

Reporting Burden:

CFR section | Respondent universe | Total annual responses | Average time per responses | Total annual burden hours | Total cost equivalent
229.207(b)—Petitions for FRA approval of new locomotive crashworthiness design standards | 746 railroads/4 locomotive manufacturers | 2 petitions | 50 hours | 100 | $7,600
—(c) Petition for FRA approval of substantive changes to FRA-approved locomotive crashworthiness design standard | 746 railroads/4 locomotive manufacturers | 1 petition | 50 hours | 50 | 3,800
—(d) Petition for FRA approval of non-substantive changes to existing FRA approved locomotive crashworthiness design standard | 746 railroads/4 locomotive manufacturers | 1 petition | 50 hours | 50 | 3,800
229.209(b)—Alternative locomotive crashworthiness designs—Petition for FRA approval | 746 railroads/4 locomotive manufacturers | 1 petition | 50 hours | 50 | 3,800
229.211(b)(3)—Processing petitions—Additional information for FRA to appropriately consider the petition | 746 railroads/4 locomotive manufacturers | 1 hearing | 24 hours | 24 | 1,824
229.213(a)(3)—Locomotive manufacturing information: retention by railroads | 746 railroads | 500 records/stickers/badge plates | 2 minutes | 16.7 | 1,269
229.215—(a) Retention and inspection of designs—Retention of records—Original designs | 4 locomotive manufacturers | 24 records | 8 hours | 192 | 14,592
—(b) Repairs and modifications—Records | 746 railroads | 6 records | 4 hours | 24 | 1,824
—(c) Inspection of records | 746 railroads | 10 records | 2 minutes | .3 | 23
Total | 746 railroads | 546 responses | N/A | 507 | 38,532

Total Estimated Annual Responses: 546.

Total Estimated Annual Burden: 507 hours.

Total Estimated Annual Burden Hour Dollar Cost Equivalent: $38,532.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Brett A. Jortland,
Deputy Chief Counsel.

[FR Doc. 2020-08516 Filed 4-21-20; 8:45 am]

BILLING CODE 4910-06-P